DEPARTMENT OF HOMELAND SECURITY

Coast Guard

33 CFR Part 167

[USCG-2005-21650]

Port Access Routes Study: In the Waters of Montauk Channel and Block Island Sound

AGENCY: Coast Guard, DHS.

ACTION: Notice of study; request for comments.

SUMMARY: The Coast Guard is conducting a Port Access Route Study (PARS) to evaluate the applicability of and the need for modifications to current vessel routing measures in the approaches to Block Island Sound, between Montauk Channel and The Race, and the area from the Point Judith Pilot Boarding area to The Race. The goal of the study is to help reduce the risk of marine casualties and increase the efficiency of vessel traffic management in the study area. The recommendations of the study may lead to future rulemaking action or appropriate international agreements.

DATES: Comments and related material must reach the Docket Management Facility on or before August 30, 2005.

ADDRESSES: You may submit comments identified by Coast Guard docket number USCG-2005-21650 to the Docket Management Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

(5) Federal eRulemaking Portal: http://www.regulations.gov.

FOR FURTHER INFORMATION CONTACT: If you have questions on this notice of study, call Lieutenant Junior Grade Brian Jeffery, Project Officer, First Coast Guard District, telephone 617-223-8348, or send email to bjeffery@d1.uscg.mil; or call Lieutenant Andrea Logman, Waterways Management Branch Chief, Coast Guard Group/MSO Long Island Sound, telephone 203-468-4429, or send e-mail to alogman@grumsolis.uscg.mil. If you have questions on viewing or submitting material to the docket, call Andrea M. Jenkins, Program Manager, Docket Operations, telephone 202-366-0271.

SUPPLEMENTARY INFORMATION:

Public Participation and Request for Comments

We encourage you to participate in this study by submitting comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice of study (USCG-2005-21650), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Definitions

The following definitions are from the International Maritime Organization's (IMO's) publication “Ships' Routeing” (except those marked by an asterisk) and should help you review this notice:

Area to be avoided or ATBA means a routing measure comprising an area within defined limits in which either navigation is particularly hazardous or it is exceptionally important to avoid casualties and which should be avoided by all ships, or certain classes of ships.

Deep-water route is a route within defined limits, which has been accurately surveyed for clearance of sea bottom, and submerged obstacles as indicated on nautical charts.

Inshore traffic zone is a routing measure comprising a designated area between the landward boundary of a traffic separation scheme and the adjacent coast, to be used in accordance with the provisions of Rule 10(d), as amended, of the International Regulations for Preventing Collisions at Sea, 1972 (COLREGS).

Precautionary area means a routing measure comprising an area within defined limits where ships must navigate with particular caution and within which the direction of traffic flow may be recommended.

Recommended route means a route of undefined width, for the convenience of ships in transit, which is often marked by centerline buoys.

Recommended track is a route which has been specifically examined to ensure so far as possible that it is free of dangers and along which ships are advised to navigate.

Regulated Navigation Area or RNA* is a water area within a defined boundary for which regulations for vessels navigating within the area have been established under 33 CFR part 165.

Roundabout means a routing measure comprising a separation point or circular separation zone and a circular traffic lane within defined limits. Traffic within the roundabout is separated by moving in a counterclockwise direction around the separation point or zone.

Separation Zone or Separation line means a zone or line separating the traffic lanes in which ships are proceeding in opposite or nearly opposite directions; or from the adjacent sea area; or separating traffic lanes designated for particular classes of ships proceeding in the same direction.

Traffic lane means an area within defined limit in which one-way traffic is established. Natural obstacles, including those forming separation zones, may constitute a boundary.

Traffic Separation Scheme or TSS means a routing measure aimed at the separation of opposing streams of traffic by appropriate means and by the establishment of traffic lanes.

Two-way route means a route within defined limits inside which two-way traffic is established, aimed at providing safe passage of ships through waters where navigation is difficult or dangerous.

Vessel routing system means any system of one or more routes or routing measures aimed at reducing the risk of casualties; it includes traffic separation schemes, two-way routes, recommended tracks, areas to be avoided, inshore traffic zones, roundabouts, precautionary areas, and deep-water routes.

Background and Purpose

Why are port access route studies required? Under the Ports and Waterways Safety Act (PWSA) (33 U.S.C. 1223(c)), the Commandant of the Coast Guard may designate necessary fairways and traffic separation schemes (TSSs) to provide safe access routes for vessels proceeding to and from U.S. ports. The designation of fairways and TSSs recognizes the paramount right of navigation over all other uses in the designated areas.

The PWSA requires the Coast Guard to conduct a study of port access routes before establishing or adjusting fairways or TSSs. Through the study process, we must coordinate with Federal, State, and foreign state agencies (as appropriate) and consider the views of maritime community representatives, environmental groups, and other interested stakeholders. A primary purpose of this coordination is, to the extent practicable, to reconcile the need for safe access routes with other reasonable waterway uses.

Were there previous port access route studies? The area (known as Area 5a of the original PARS), which included Long Island Sound, was last studied in 1980, and the final results of the study were published in the Federal Register on October 5, 1981 (46 FR 49035). The study of area 5a concluded that no routing measures were necessary within the study area, including Long Island Sound.

Why is a new port access route study necessary? Subsequent to an oil spill in Buzzards Bay in April 2003, the Coast Guard sponsored a Ports and Waterways Safety Assessment (PAWSA). One PAWSA recommendation was to establish a recommended route to help assist vessel traffic and provide safer transit routes for commercial vessels. In response to the PAWSA a domestic recommended route from Cleveland Ledge, Buzzards Bay, Massachusetts to The Race was developed by the Coast Guard and subsequently charted by National Oceanic and Atmospheric Administration (NOAA) as a recommended vessel route. This recommended vessel route has never been submitted to the International Maritime Organization (IMO) for approval. Our own requirements stipulate that prior to submitting vessel routing measures to IMO for approval, we conduct a PARS. Therefore, we announced in the Federal Register that we would conduct a PARS for the Approaches to Narragansett Bay and Buzzards Bay, Cleveland Ledge to The Race, Narragansett Bay East Passage and the Areas Offshore of Connecticut, Rhode Island, and Massachusetts (68 FR 74199, December 23, 2003). Final results of the PARS are pending and will be published in the Federal Register when finalized.

In addition, the First Coast Guard District published an Advance Notice of Proposed Rule Making (ANPRM) on October 26, 2004 (69 FR 62427) for Navigation and Waterways Management Improvements, Buzzards Bay, MA. The ANPRM is seeking comments on the merits of formally designating the recommended vessel route within Buzzards Bay, as well as amending a First Coast Guard District regulated navigation area to require tug escorts for all tank barges transiting Buzzards Bay, MA. The PARS and the ANPRM did not include the waters of western Block Island Sound extending from Montauk Channel to The Race.

The Coast Guard Captain of the Port (COTP) Long Island Sound was asked to consider implementing recommended vessel routes from Montauk Channel to a point south of Watch Hill, Rhode Island, then running westerly to The Race. These proposed routes would converge with the recommended vessel route from Cleveland Ledge to The Race. Vessels transiting to ports in Long Island Sound or transiting Long Island Sound on voyages to or from the Port of New York utilize one of two routes encompassed in this new study. The first route runs from the Point Judith Pilot Boarding area through Block Island Sound to The Race; the second includes the waters of Montauk Channel north through Block Island Sound to a point south of Watch Hill, Rhode Island, then westerly to The Race.

The areas of study experience high traffic density and multiple uses. Montauk Channel is commonly used by ocean-going vessels with drafts less than 38 feet, large numbers of commercial fishing and recreational vessels, and military vessels. Heavy recreational traffic and commercial ferries that run from New London, Connecticut, to Block Island, Rhode Island, cross Block Island Sound. Significant tug and barge traffic carrying petroleum products and deeper draft tank vessels heading for ports within Long Island Sound or the Port of New York also utilize this route, presenting higher potential for adverse impact to the marine environment due to an oil spill.

The areas of study also correspond to vessel routes utilized by vessels embarking a pilot. Vessels transiting Long Island Sound, irrespective of destination, may utilize either a New York or Connecticut-licensed pilot. Both the New York Board of Commissioners for Pilots and the Connecticut Department of Transportation have designated two pilot boarding areas corresponding to the routes utilized by vessels. Vessels entering Long Island Sound must utilize one of two pilot boarding areas to board or disembark a pilot: the Point Judith Pilot Boarding Area, located South of Point Judith, Rhode Island, and the Montauk Boarding area, located off of Montauk Point, New York.

Long Island Sound receives approximately 750 foreign flag vessel arrivals per year. Of these, over 500 are tank vessels carrying petroleum products. In addition, there are approximately 1500 tug and barge transits through Long Island Sound per year, all of which utilize one of the two routes being examined in this study. Vessels with a draft less than 38 feet may utilize Montauk Channel or Block Island Sound en route to Long Island Sound via The Race.

This PARS is also significant due to the potential increase in vessel traffic due to Liquefied Natural Gas (LNG) vessels transiting the area for Long Island Sound. Broadwater Energy, Inc. recently notified the COTP Long Island Sound of its intent to construct a floating liquefied natural gas (LNG) storage and regassification facility within Long Island Sound. If permitted for construction, the facility is expected to be operational by 2010, and it is projected it would receive between 110 and 160 LNG vessels per year. The loaded draft of typical LNG vessels is between 36 and 39 feet (11 to 12 meters). Under 33 CFR 127.009, the Coast Guard is required to conduct an analysis of the suitability of a waterway for LNG marine traffic. The results of this PARS will contribute to that suitability analysis, which will occur later in the LNG permitting process.

This study is also necessary due to projected increases in vessel traffic and to ensure any routing measures that may be considered for the area from Montauk Point through Block Island to The Race are consistent with measures implemented from Point Judith to The Race. Although this study overlaps the PARS for Narragansett Bay and the ANPRM for Narragansett Bay, this overlap is required due to the potential for LNG vessel traffic through the study area.

What are the timeline, study area, and process of this PARS? The First Coast Guard District will conduct this PARS. The study will begin immediately and we anticipate the study will take 6 to 12 months to complete.

The study area includes the approaches to Block Island Sound, between Montauk Channel and The Race, and the area from Point Judith Pilot Boarding area to The Race.

As part of this study, we will consider previous studies, analyses of vessel traffic density, and agency and stakeholder experience in vessel traffic management, navigation, vessel handling, and effects of weather. We encourage you to participate in the study process by submitting comments in response to this notice.

We will publish the results of the PARS in the Federal Register. It is possible that the study may validate continued applicability of existing vessel routing measures and conclude that no changes are necessary. It is also possible that the study may recommend one or more changes to enhance navigational safety and vessel traffic management efficiency. Study recommendations may lead to future rulemakings or appropriate international agreements.

Possible Scope of the Recommendations

We are attempting to determine the scope of any safety problems associated with vessel transits in the study area. We expect that information gathered during the study will identify any problems and appropriate solutions. The study may recommend that we—

• Maintain the current vessel routing measures;

• Establish a deep-water route;

• Establish recommended routes;

• Create precautionary area(s);

• Create one or more inshore traffic zone(s);

• Establish two-way routes;

• Establish an area to be avoided (ATBA) in shallow areas where the risk of grounding is present;

• Establish, disestablish, or modify anchorage grounds; and

• Establish a Regulated Navigation Area (RNA) with specific vessel operating requirements to ensure safe navigation near shallow water.

Questions

To help us conduct the port access route study, we request comments on the following questions, although comments on other issues addressed in this document are also welcome. In responding to a question, please explain your reasons for each answer, and follow the instructions under “Public Participation and Request for Comments” above.

1. What navigational hazards do vessels operating in the study area face? Please describe.

2. Are there strains on the current vessel routing system (increasing traffic density, for example)? If so, please describe.

3. Are modifications to existing vessel routing measures needed to address hazards and strains and to improve traffic management efficiency in the study area? If so, please describe.

4. What costs and benefits are associated with the measures listed as potential study recommendations? What measures do you think are most cost-effective?

5. What impacts, both positive and negative, would changes to existing routing measures or new routing measures have on the study area?

6. What impacts would routing measures implemented in the study area have on vessels transiting in waters adjacent to the study area, such as in Long Island Sound?

Dated: June 23, 2005.
Howard L. Hime,
Acting Director of Standards, Marine Safety, Security and Environmental Protection.

[FR Doc. 05-13066 Filed 6-30-05; 8:45 am]

BILLING CODE 4910-15-P